DEPARTMENT OF ENERGY

Federal Energy Regulatory Commission

18 CFR Parts 260 and 284

[Docket Nos. RM07-10-000 and AD06-11-000]

Transparency Provisions of Section 23 of the Natural Gas Act; Transparency Provisions of the Energy Policy Act; Notice of Extension of Time

May 30, 2007.

AGENCY: Federal Energy Regulatory Commission, DOE.

ACTION: Notice of Proposed Rulemaking; extension of comment period.

SUMMARY: On April 19, 2007, the Commission issued a Notice of Proposed Rulemaking (NOPR) revising its regulations in order to facilitate price transparency in markets for the sale or transportation of physical natural gas in interstate commerce. The dates for filing initial and reply comments on the NOPR are being extended at the request of the Texas Pipeline Association.

DATES: Comments are due on or before July 11, 2007. Reply comments are due on or before August 9, 2007.

ADDRESSES: You may submit comments identified by Docket No. RM07-10-000, by one of the following methods:

• Agency Web Site: http://ferc.gov. Follow the instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426. Please refer to the Comment Procedures Section of the preamble for additional information on how to file paper comments.

FOR FURTHER INFORMATION CONTACT:

Stephen J. Harvey (Technical), 888 First Street, NE., Washington, DC 20426, (202) 502-6372, Stephen.Harvey@ferc.gov.

Eric Ciccoretti (Legal), 888 First Street, NE., Washington, DC 20426, (202) 502-8493, Eric.Ciccoretti@ferc.gov.

SUPPLEMENTARY INFORMATION: On May 25, 2007, the Texas Gas Pipeline Association (TPA) filed a motion for an extension of time to file initial and reply comments in response to the Notice of Proposed Rulemaking (NOPR) issued April 19, 2007, in the above-referenced proceeding. 72 FR 20791 (Apr. 26, 2007), FERC. Stats. and Regs. ¶ 32,614 (2007). The motion states that TPA and its members require additional time in order to fully consider the implications of the NOPR, to prepare meaningful comments and to develop material for the record to respond to the numerous requests for specific information in the NOPR.

Upon consideration, notice is hereby given that an extension of time for filing initial comments on the NOPR is granted to and including July 11, 2007. Reply comments should be filed on or before August 9, 2007.

Kimberly D. Bose,
Secretary.

[FR Doc. E7-10803 Filed 6-5-07; 8:45 am]

BILLING CODE 6717-01-P